DEPARTMENT OF HOMELAND SECURITY

Coast Guard

33 CFR Part 165

[CGD09-03-227]

RIN 1625-AA00

Safety Zone; Milwaukee Harbor, Milwaukee, WI

AGENCY: Coast Guard, DHS.

ACTION: Temporary final rule.

SUMMARY: The Coast Guard is establishing a temporary safety zone inside Milwaukee Harbor for the Offshore Power Boat Races. This safety zone is necessary to protect spectators and vessels from the hazards associated with high speed vessels. This safety zone is intended to restrict vessel traffic from a portion of the Milwaukee Harbor.

DATES: This rule is effective from 9 a.m. on August 8, 2003 until 5 p.m. on August 10, 2003.

ADDRESSES: Comments and material received from the public, as well as documents indicated in this preamble as being available in the docket, are part of docket [CGD09-03-227] and are available for inspection or copying at U.S. Coast Guard Marine Safety Office Milwaukee, 2420 South Lincoln Memorial Drive, Milwaukee, WI 53207 between 7 a.m. and 3:30 p.m., Monday through Friday, except Federal holidays.

FOR FURTHER INFORMATION CONTACT: Marine Science Technician Chief Dave McClintock, Marine Safety Office Milwaukee, at (414) 747-7155.

SUPPLEMENTARY INFORMATION:

Regulatory Information

We did not publish a notice of proposed rulemaking (NPRM) for this regulation. Under 5 U.S.C. 553(b)(B), the Coast Guard finds that good cause exists for not publishing an NPRM. The permit application was not received in time to publish an NPRM followed by a final rule before the effective date. Delaying this rule would be contrary to the public interest of ensuring the safety of spectators and vessels during this event and immediate action is necessary to prevent possible loss of life or property. The Coast Guard has not received any complaints or negative comments previously with regard to this event.

For the same reasons, under 5 U.S.C. 553(d)(3), the Coast Guard finds that good cause exists for making this rule effective less than 30 days after publication in the Federal Register.

Background and Purpose

This safety zone is established to safeguard the public from the hazards of high-speed boat races. The size of the zone was determined by the race course and using previous experiences of high-speed boat races in the Captain of the Port zones and local knowledge about wind, waves, and currents in this particular area.

The safety zone will be enforced on August 8, 2003 from 9 a.m. until 4 p.m.; on August 9 and 10, 2003 from 9 a.m. until 5 p.m. The safety zone will start at the following coordinates: 43° 02.423′ N 087° 53.167′ W west to 43° 02.422′ N 087° aves\rules.xml 53.442′ W south to 43° 01.583′ N 087° 53.550′ W southeast to 43° 00.533′ N 087° 53.091′ W east to 43° 00.619′ N 087° 52.827′ W north to 43° 01.587′ N 087° 53.244′ W north to ending waypoint 43° 02.423′ N 087° 53.167′ W located inside of Milwaukee Harbor. There will also be a northern zone prohibiting vessel traffic into the racing area at the following position 43° 02.473′ N 087° 52.877′ W to 43° 02.535′ N 087° 53.020′ W to 43° 02.565′ N 087° 53.127′ W to 43° 02.590′ N 087° 53.260′ W. There will also be a southern zone which also provides a lane for recreational vessels into inner Milwaukee Harbor. At the following position 43° 00.490′ N 087° 52.660′ W to 43° 00.429′ N 087° 52.744′ W to 43° 00.373′ N 087° 52.886′ W to 43° 00.343′ N 087° 53.055′ W to 43° 00.508′ N 087° 53.246′ W to 43° 00.597′ N 087° 53.318′ W to 43° 00.911′ N 087° 53.467′ W to 43° 01.100′ N 087° 53.559′ W to 43° 01.218′ N 087° 53.612′ W to 43° 01.311′ N 087° 53.642′ W to 43° 01.378′ N 087° 53.617′ W to 43° 01.504′ N 087° 53.649′ W (NAD 83)

All persons and vessels shall comply with the instructions of the Captain of the Port Milwaukee or his designated on scene patrol personnel. Entry into, transiting, or anchoring within the safety zone is prohibited unless authorized by the Captain of the Port Milwaukee or his designated on scene representative. The Captain of the Port Milwaukee may be contacted via VHF Channel 16.

Discussion of Rule

The Coast Guard is establishing a safety zone running between the break walls inside and outside Milwaukee Harbor, Milwaukee, Wisconsin. High-speed vessels will be transiting the inner harbor on Friday August 8, 2003 to tune their engines and become familiar with the race course. Due to other vessel traffic there will be times that when the high-speed vessels will not be transiting the area so other vessels may transit this area. On August 9 and 10, 2003 the races will occur. There will be breaks between races for other vessels to transit in and out of the harbor. The Coast Guard will notify the public, in advance, by way of Ninth Coast Guard District Local Notice to Mariners, marine information broadcasts, and for those who request it from Marine Safety Office Milwaukee, by facsimile (fax).

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities: the owners or operators of vessels intending to transit or anchor in the vicinity of the inner and outer Milwaukee Harbor on August 8, 2003 from 9 a.m. until 4 p.m. and again on August 9 and August 10, 2003 from 9 a.m. until 5 p.m.

This safety zone will not have a significant economic impact on a substantial number of small entities for the following reasons: This rule will be in effect for only one hour on one day and late in the day when vessel traffic is minimal. Vessel traffic may enter or transit through the safety zone with the permission of the Captain of the Port Milwaukee or his designated on scene representative. Before the effective period, we will issue maritime advisories widely available to users of the Port of Milwaukee.

Assistance for Small Entities

Under section 213(a) of the Small Business Regulatory Enforcement Fairness Act of 1996 (Pub. L. 104-121), we offer to assist small entities in understanding the rule so that they can better evaluate its effects on them and participate in the rulemaking process. If the rule would affect your small business, organization, or governmental jurisdiction and you have questions concerning its provisions or options for compliance, please contact Marine Safety Office Milwaukee (See ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2. of the Instruction. Therefore, this rule is categorically excluded, under figure 2-1, paragraph (34)(g) of the Commandant Instruction M16475.1D, from further environmental documentation.

List of Subjects in 33 CFR Part 165

Harbors, Marine safety, Navigation (water), Reporting and recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170

.

2. A new temporary § 165.T09-227 is added to read as follows:

§ 165.T09-227 Safety Zone; Milwaukee Harbor, Milwaukee, WI.

(a) Location. The following is a safety zone bounded by the following coordinates: 43° 02.423′ N 087° 53.167′ W west to 43° 02.422′ N 087° 53.442′ W south to 43° 01.583′ N 087° 53.550′ W southeast to 43° 00.533′ N 087° 53.091′ W east to 43° 00.619′ N 087° 52.827′ W north to 43° 01.587′ N 087° 53.244′ W north to ending waypoint 43° 02.423′ N 087° 53.167′ W located inside of Milwaukee Harbor. There will also be a northern zone prohibiting vessel traffic into the racing area at the following position 43° 02.473′ N 087° 52.877′ W to 43° 02.535′ N 087° 53.020′ W to 43° 02.565′ N 087° 53.127′ W to 43° 02.590′ N 087° 53.260′ W. There will also be a southern zone which also provides a lane for recreational vessels into inner Milwaukee Harbor. At the following position 43° 00.490′ N 087° 52.660′ W to 43° 00.429′ N 087° 52.744′ W to 43° 00.373′ N 087° 52.886′ W to 43° 00.343′ N 087° 53.055′ W to 43° 00.508′ N 087° 53.246′ W to 43° 00.597′ N 087° 53.318′ W to 43° 00.911′ N 087° 53.467′ W to 43° 01.100′ N 087° 53.559′ W to 43° 01.218′ N 087° 53.612′ W to 43° 01.311′ N 087° 53.642′ W to 43° 01.378′ N 087° 53.617′ W to 43° 01.504′ N 087° 53.649′ W (NAD 83)

(b) Enforcement Periods. This rule is effective from 9 a.m. on August 8, 2003 until 5 p.m. on August 10, 2003. This section will be enforced from 9 a.m. until 4 p.m. on August 8, 2003 for warm-ups; and from 9 a.m. until 5 p.m. on August 9 and again on August 10, 2003 for the races.

(c) Regulations. (1) The general regulations contained in 33 CFR 165.23 apply.

(2) All persons and vessels shall comply with the instructions of the Coast Guard Captain of the Port Milwaukee or the designated on scene patrol personnel. Coast Guard patrol personnel include commissioned, warrant or petty officers of the U.S. Coast Guard. Upon being hailed by a U.S. Coast Guard vessel via siren, radio, flashing light, or other means, the operator shall proceed as directed.

(3) This safety zone should not adversely affect shipping. However, commercial vessels may request permission from the Captain of the Port Milwaukee to enter or transit the safety zone. Approval will be made on a case-by-case basis. Requests must be in advance and approved by the Captain of the Port Milwaukee before transits will be authorized. The Captain of the Port Milwaukee may be contacted via U.S. Coast Guard Group Milwaukee on Channel 16, VHF-FM.

Dated: July 30, 2003.
H.M. Hamilton,
Commander, U.S. Coast Guard Captain of the Port Milwaukee.

[FR Doc. 03-20194 Filed 8-7-03; 8:45 am]

BILLING CODE 4910-15-P